DEPARTMENT OF HOUSING AND URBAN DEVELOPMENT

[Docket No. FR-5951-N-01]

Notice of Proposal To Establish a Tribal Intergovernmental Advisory Committee; Request for Comments on Committee Structure

Correction

In notice document 2016-14895 beginning on page 40899 in the issue of Thursday, June 23, 2016, make the following correction:

1. On page 40899, in the third column, in the 5th line, “June 23, 2016” should read “July 25, 2016”

[FR Doc. C1-2016-14895 Filed 6-28-16; 8:45 am]

BILLING CODE 1505-01-D